DEPARTMENT OF THE INTERIOR

Bureau of Land Management

[LLES961000 L14400000 BK0000 17X]

Filing of Plat Survey; Eastern States

AGENCY: Bureau of Land Management, Interior

ACTION: Notice of Official Filing.

SUMMARY: The Bureau of Land Management-Eastern States (BLM-ES) is publishing this Notice to inform the public of the intent to officially file the survey plat listed below, and afford a proper period of time to protest this action prior to the plat filing, 30 calendar days from the date of this publication. During this time, the plat will be available for review in the BLM-ES Public Room. The survey, executed at the request of the Bureau of Indian Affairs (BIA) and the BLM, is necessary for the management of these lands.

DATES: Unless there are protests of this action, the filing of the plat described in this Notice will happen on August 18, 2017.

ADDRESSES: You may submit written protests to the BLM-Eastern States, Suite 950, 20 M Street SE., Washington DC, 20003.

FOR FURTHER INFORMATION CONTACT: Dominica Van Koten, Chief Cadastral Surveyor for Eastern States; (202) 912-7756; email: dvankote@blm.gov; or U.S. Postal Service: BLM-ES, 20 M Street SE., Washington, DC, 20003. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BIA and BLM requested this survey for Township 7 North, Range 10 East, Choctaw Meridian, Mississippi. The plat of survey represents the dependent resurvey of a portion of the sub-divisional lines. The survey of the sub-division of sections 14 and 23, and the metes and bounds survey of parcels held in trust for the Mississippi Band of Choctaw and which are identified as: sections 14 and 23 of Township 7 North, Range 10 East, of the Choctaw Meridian, in the state of Mississippi; was accepted September 30, 2016. A copy of the described plat will be placed in the open files, and available to the public as a matter of information.

A person or party who wishes to protest a survey must file a notice that they wish to protest with the Chief, Branch of Cadastral Survey. A statement of reasons for a protest may be filed with the notice of protest and must be filed with the Chief, Branch of Cadastral Survey within 30 days after the protest is filed. If a protest against the survey is received prior to the date of official filing, the filing will be stayed pending consideration of the protest. A plat will not be officially filed until the day after all protests have been dismissed or otherwise resolved. Before including your address, phone number, email address, or other personal identifying information in your comment, you should be aware that your entire comment—including your personal identifying information—may be made publicly available at any time. While you can ask the BLM in your comment to withhold your personal identifying information from public review, we cannot guarantee that we will be able to do so.

Authority: 43 CFR 1831.1

Leon Chmura,
Acting Chief Cadastral Surveyor.

[FR Doc. 2017-15174 Filed 7-18-17; 8:45 am]

BILLING CODE 4310-GJ-P